DEPARTMENT OF ENERGY

Federal Energy Regulatory Commission

Combined Notice of Filings #2

Take notice that the Commission received the following electric rate filings:

Docket Numbers: ER10-1790-015; ER10-2596-006; ER10-2597-004; ER12-2200-003.

Applicants: BP Energy Company, Fowler Ridge II Wind Farm LLC, Fowler Ridge III Wind Farm LLC, Mehoopany Wind Energy LLC.

Description: Updated Market Analysis for Northeast Region of BP Energy Company, et al.

Filed Date: 6/12/17.

Accession Number: 20170612-5089.

Comments Due: 5 p.m. ET 8/11/17.

Docket Numbers: ER17-1532-001.

Applicants: Golden Spread Electric Cooperative, Inc.

Description: Tariff Amendment: Clarification to Amended and Restated WPC to be effective 5/3/2017.

Filed Date: 6/12/17.

Accession Number: 20170612-5064.

Comments Due: 5 p.m. ET 7/3/17.

Docket Numbers: ER17-1798-000.

Applicants: Fowler Ridge III Wind Farm LLC.

Description: § 205(d) Rate Filing: Revised Market-Based Rate Tariff to be effective 8/12/2017.

Filed Date: 6/12/17.

Accession Number: 20170612-5117.

Comments Due: 5 p.m. ET 7/3/17.

Docket Numbers: ER17-1799-000.

Applicants: Mehoopany Wind Energy LLC.

Description: § 205(d) Rate Filing: Revised Market-Based Rate Tariff to be effective 8/12/2017.

Filed Date: 6/12/17.

Accession Number: 20170612-5124.

Comments Due: 5 p.m. ET 7/3/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 12, 2017.
Kimberly D. Bose,
Secretary.

[FR Doc. 2017-12673 Filed 6-16-17; 8:45 am]

BILLING CODE 6717-01-P